DEPARTMENT OF TRANSPORTATION

Federal Aviation Administration

Notice of Meeting of the Grand Canyon Working Group

ACTION: Notice of meeting.

SUMMARY: The Federal Aviation Administration (FAA) and the National Park Service (NPS) are announcing the next meeting of the Grand Canyon Working Group (GCWG). The GCWG is a self-contained group within the National Parks Overflights Advisory Group (NPOAG) that was established pursuant to the National Parks Air Tour Management Act of 2000. This notification provides the date, location, and agenda for the meeting.

Date and Location: The GCWG will be meeting on September 20, 2007. The meeting will take place in the Mojave Room at the Chaparral Suites Resort, 5001 N. Scottsdale Road, Scottsdale, Arizona 85250, phone number (480) 949-1414. The meeting will be conducted from 8:30 a.m.-5 p.m. The public can attend the open session meeting on Thursday, September 20, 2007. The GCWG will also be meeting in closed session on the preceding day, September 19, 2007. The September 19, 2007 closed session meeting is not open to the general public.

FOR FURTHER INFORMATION CONTACT: Lucy Moore, 5 Seton Place, Santa Fe, NM 87508, telephone: (505) 820-2166, e-mail: lucymoore@nets.com.

SUPPLEMENTARY INFORMATION:

Background

The FAA and NPS established the GCWG within the NPOAG to provide advice and recommendations regarding the implementation of the National Parks Overflights Act of 1987 with respect to the Grand Canyon. The GCWG is comprised of 20 members to assure a representative and balanced group of agency, tribal, environmental, recreation, and aviation interests. The Working Group is co-chaired by a representative of the NPS and a representative of the FAA, and is facilitated by Lucy Moore Associates, a third-party neutral contracted through the U.S. Institute for Environmental Conflict Resolution. The Working Group has specific responsibilities for Grand Canyon overflight matters, including but not limited to: Review of the overflights noise analysis; and recommendations for a final overflights plan that provides for the substantial restoration of natural quiet and experience of the Grand Canyon National Park, including routes or corridors for commercial air tour operations that employ quiet aircraft technology.

Agenda for the September 20, 2007 Grand Canyon Working Group Meeting

An agenda will be distributed to Working Group members and posted on the FAA Grand Canyon Overflights Web site (http://overflights.faa.gov).

Attendance at the September 20, 2007 Meeting

Interested persons may attend the open session meeting on September 20, 2007. Because seating is limited, if you plan to attend please contact the person listed under FOR FURTHER INFORMATION CONTACT so that meeting space may be made to accommodate all attendees.

Record of the Meeting

A meeting summary for the GCWG open session meeting will be posted under the related documents section of the FAA Grand Canyon Overflights Web site at http://overflights.faa.gov.

Issued in Hawthorne, CA on August 13, 2007.
Barry Brayer,
Manager, Special Programs Staff, Western-Pacific Region.

[FR Doc. 07-4104 Filed 8-21-07; 8:45 am]

BILLING CODE 4910-13-M